DEPARTMENT OF AGRICULTURE

Forest Service

Fremont-Winema National Forests; Oregon; Invasive Plant Treatment

AGENCY: Forest Service, USDA.

ACTION: Notice of intent to prepare an environmental impact statement.

SUMMARY: The USDA Forest Service will prepare an Environmental Impact Statement (EIS) to document and disclose the potential environmental effects of proposed invasive plant treatments on the Fremont-Winema National Forests. Treatment methods would include manual, mechanical, cultural, biological, and chemical control. Combinations of methods may be used. Treatments would focus on 4,274 known invasive plant sites currently infesting approximately 7,730 acres. The Proposed Action also includes an Early Detection/Rapid Response (EDRR) process to allow treatment of new or previously undiscovered infestations. Under the EDRR approach, new sites would be evaluated to ensure that effects are within the scope of those already analyzed in the EIS.

DATES: Comments concerning the scope of the analysis must be received by April 9, 2007. The draft environmental impact statement is expected in November 2007 and the final environmental impact statement is expected in July 2008.

ADDRESSES: Send written comments to Karen Shimamoto, Forests Supervisor, Fremont-Winema National Forests, Fremont-Winema Headquarters, 1301 South G Street, Lakeview, OR 97630. Electronic comments can be submitted to: comments-pacificnorthwest-fremont-winema@fs.fed.us.

FOR FURTHER INFORMATION CONTACT: Rick Elston, Interdisciplinay Team Leader, Fremont-Winema National Forests, P.O. Box 129, Silver Lake, OR 97638. Phone (541) 576-7569 or e-mail relston@fs.fed.us; or Sarah Malaby, Forest Botanist, Fremont-Winema National Forests, 2819 Dahlia, Klamath Falls, OR 97601. Phone (541) 885-3421 or e-mail smalaby@fs.fed.us.

SUPPLEMENTARY INFORMATION:

Purpose and Need for Action

There is an underlying need for timely control and/or eradiction of invasive plants on the Fremont-Winema National Forests so that desired environmental conditions (healthy native plant populations) may be achieved. Invasive plants can displace native plant communities, increase fire hazard, degrade fish and wildlife habitat, eliminate rare and cultural plants, increase soil erosion, and adversely affect scenic beauty and recreational opportunities. Because of their competitive abilities and a lack of natural predators to keep them in check, invasive plants can spread rapidly across the landscape, unimpeded by ownership or administrative boundaries. Infested areas represent potential seed sources for further invasion into neighboring ownerships. On the Fremont-Winema National Forests there are presently 24 species of invasive plants infesting approximately 7,400 acres.

Noxious weed control is currently taking place on the Forests under separate Winema and Fremont Environmental Assessments. This proposal would create a consistent program across the two Forests, address invasive species sites found since those decisions were signed, and include use of additional, often less toxic and more effective, herbicides. The project will utilize recent direction and new tools provided by the Pacific Northwest Region Invasive Plant Program Preventing and Managing Invasive Plants Record of Decision signed in 2005.

The purpose of this project is to control invasive plants in a cost-effective manner that complies with environmental standards. Without action, invasive plant populations will continue to have adverse effects on National Forest System and adjacent lands.

Proposed Action

The Proposed Action for this project is to apply site-specific treatment prescriptions to invasive plants on the Fremont-Winema National Forests. Treatments are to be based on site objective (containment, control, or eradication), biology of the invasive plant species, size of the infestation, and spread potential. Project Design Criteria (PDC) will be developed to reduce or eliminate potentially adverse effects on non-target species and other resources.

Treatment of both existing and newly discovered invasive plant species infestations would occur during the next 10 to 15 years. Concentrations of known invasive plant sites have been grouped into 54 “treatment areas” that take into consideration expected spread patterns associated with road systems, plantations, areas burned by wildfire, and other habitat conditions at risk of infestation. Treatment areas encompass 156,000 acres and contain 4,274 known invasive plant sites currently infesting approximately 7,730 acres. Maps and descriptions of treatment areas are available at: http:www.fs.fed.us/r6/frewin/projects/analyses/2007invasives/, or upon request. The amount of acres treated in any given year would depend on funding and the success of past treatments. It is expected that less than 5,000 acres would be treated each year. With private landowner cooperation, the proposal would provide the option to use Federal funds to treat invasive plants on adjacent private lands both inside and outside the Forest boundary. Use of federal dollars on private land would be considered for high priority species, populations overlapping both ownerships, and sites with high potential for spread across boundaries, such as those in road corridors and areas burned by wildfire.

The Proposed Action includes an Early Detection/Rapid Response (EDRR) process to allow treatment of new or previously undiscovered infestations outside of treatment areas. The intent of the EDRR approach is to increase cost-effectiveness by treating new infestations when they are small so that the likelihood of adverse effects from treatment is minimized, and the invasives plants do less ecological damage. Under the EDRR approach, new sites would be evaluated to determine appropriate Project Design Criteria and to ensure that effects are within the scope of those already analyzed in the EIS.

Responsible Official

The Responsible Official is Karen Shimamoto, Fremont-Winema National Forests Supervisor. She may be contacted at Fremont-Winema Headquarters, 1301 South G Street, Lakeview, OR 97630.

Nature of Decision To Be Made

The Responsible Official will decide what type of methods and how they will be used to contain, control, or eradicate invasive plants on the Fremont-Winema National Forests.

Scoping Process

The public is asked to provide the responsible official with written comments describing their concerns about this project. Public meetings will be held during the spring or summer of 2007.

Comment Requested

This notice of intent initiates the scoping process which guides the development of the environmental impact statement. The comments most useful to developing or refining the proposed action would be site specific concerns and those that can help us develop treatments that would be responsive to our goal to control, contain, or eradicate invasive plants as well as being cost effective.

Early Notice of Importance of Public Participation in Subsequent Environmental Review

A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions (Vermont Yankee Nuclear Power Corp. v. NRDC, 435 U.S. 519, 553 (1978)). Also, environmental objections that could be raised at the draft environmental impact statement stage but that are not raised until after completion of the final environmental impact statement may be waived or dismissed by the courts (City of Angoon v. Hodel, 803 F.2d 1016, 1022 (9th Cir. 1986) and Wisconsin Heritages, Inc. v. Harris, 490 F. Supp. 1334, 1338 (E.D. Wis. 1980)). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: February 28, 2007.
Karen Shimamoto,
Forest Supervisor, Fremont-Winema National Forests.

[FR Doc. 07-1053 Filed 3-6-07; 8:45 am]

BILLING CODE 3410-11-M